NUCLEAR REGULATORY COMMISSION

[Docket No.: 040-09022]

Consideration of License Amendment Request for the SCA Services Site in Bay County, MI, and Opportunity for a Hearing

AGENCY: Nuclear Regulatory Commission.

ACTION: Notice of consideration of license amendment request for the SCA Services site in Bay County, Michigan, and Opportunity for a Hearing.

The U.S. Nuclear Regulatory Commission (NRC) is considering issuance of a license amendment to Materials License No. SUC-1565 (SUC-1565) (the license), issued to SCA Services, 700 56th Avenue, Zeeland, Michigan 49464, to amend condition 11A for an alternative schedule for submitting a decommissioning plan (DP) for the SCA Services (Hartley & Hartley Landfill) Site Decommissioning Management Plan (SDMP) site in Bay County, Michigan. Condition 11A of the current license requires the DP to be submitted by October 1, 2000. The licensee failed to comply with this condition. A Notice of Violation (NOV) was issued on December 21, 2000. On September 5, 2001, the licensee requested that the due date for the submission of the DP be extended to September 30, 2003. The requested amendment is part of the corrective action resulting from the NOV.

The NRC hereby provides notice that this is a proceeding on request for amendment of a license falling within the scope of subpart L “Informal Hearing Procedures for Adjudication in Materials Licensing Proceedings,” of NRC's rules of practice for domestic licensing proceedings in 10 CFR part 2. Pursuant to Section 2.1205(a), any person whose interest may be affected by this proceeding may file a request for a hearing in accordance with Section 2.1205(d). A request for a hearing must be filed within thirty (30) days of the date of publication of this Federal Register notice.

The request for a hearing must be filed with the Office of the Secretary either:

1. By delivery to the Secretary, U.S. Nuclear Regulatory Commission, One White Flint North, 11555 Rockville Pike, Rockville, MD 20852-2738; or

2. By mail or telegram addressed to the Secretary, U.S. Nuclear Regulatory Commission, Washington, DC 20555. Attention: Rulemakings and Adjudications Staff.

In addition to meeting other applicable requirements of 10 CFR part 2 of the NRC's regulations, a request for a hearing filed by a person other than an applicant must describe in detail:

1. The interest of the requester in the proceeding;

2. How that interest may be affected by the results of the proceeding, including the reasons why the requester should be permitted a hearing, with particular reference to the factors set out in Section 2.1205(h);

3. The requester's area of concern about the licensing activity that is the subject matter of the proceeding; and

4. The circumstances establishing that the request for a hearing is timely in accordance with Section 2.1205(d).

In accordance with 10 CFR 2.1205(f), each request for a hearing must also be served by delivering it personally or by mail, to:

1. The applicant, SCA Services, Inc., 700 56th Avenue, Zeeland, MI 49464; and

2. The NRC staff, by delivery to the General Counsel, One White Flint North, 11555 Rockville Pike, Rockville, MD 20852-2738, or by mail to the General Counsel, U.S. Nuclear Regulatory Commission, Washington, DC 20555.

For further details with respect to this action, the licensee request is available for inspection at the NRC's Public Document Room, One White Flint North, 11555 Rockville Pike, Rockville, MD, 20852-2738.

Dated at Rockville, Maryland, this 19th Day of September, 2001.
For the Nuclear Regulatory Commission.
M. (Sam) Nalluswami,
Project Manager, Facilities Decommissioning Section, Decommissioning Branch, Division of Waste Management, Office of Nuclear Material Safety and Safeguards.

[FR Doc. 01-24579 Filed 10-1-01; 8:45 am]

BILLING CODE 7590-01-P